DEPARTMENT OF LABOR

Employment and Training Administration

[TA-W-65,814]

Sperian Protective Gloves, USA, Buffalo, NY; Notice of Termination of Investigation

In accordance with Section 221 of the Trade Act of 1974, as amended, an investigation was initiated on April 17, 2009 in response to a petition filed by a company official on behalf of workers of Sperian Protective Gloves, USA, Buffalo, New York.

The petitioner has requested that the petition be withdrawn. Consequently, the investigation has been terminated.

Signed in Washington, DC, this 21st day of April 2009.
Richard Church,
Certifying Officer, Division of Trade Adjustment Assistance.

[FR Doc. E9-10895 Filed 5-8-09; 8:45 am]

BILLING CODE 4510-FN-P